DEPARTMENT OF THE INTERIOR

Bureau of Land Management

[AZ-020-1150-JP-EEE]

Closure of Public Lands

AGENCY: Bureau of Land Management, Interior.

ACTION: Notice of closure of public lands and associated roads to public entry.

SUMMARY: Notice is hereby given that the following described public land areas and associated roads will be seasonally closed to entry and all recreational use by the general public between March 15 and July 15. This order seasonally closes approximately 65,000 acres. BLM-administered public lands west of Arizona State Route 85 and south of the Darby Wells/Scenic Loop/Chico Shunie Road, located within the following townships and ranges will be closed seasonally:

Gila and Salt River Meridian, Arizona

Township 12 South, Range 6 West

Township 12 South, Range 5 West

Township 13 South, Range 6 West

Township 13 South, Range 5 West

Township 14 South, Range 6 West

Township 14 South, Range 5 West.

The BLM is implementing this emergency closure as part of its compliance with sections 7(a)(1) and 7(a)(2) of the Endangered Species Act of 1973, as amended and as specified in the proposed action outlined in the U.S. Fish and Wildlife Service Biological Opinion (2-21-94-F-192R2). The closure will reduce disturbance of the endangered Sonoran Pronghorn by human activities. Authority for this emergency closure is 43 CFR 8364.1, the Federal Land Policy and Management Act of 1976 (43 U.S.C. 1701) and the Endangered Species Act of 1973, as amended. The closure will remain in effect on a continuing annual basis for the time periods indicated above until rescinded or modified by the authorized officer. Those lands within Township 14 south, Range 5 west that are within the Gunsite Wash camping area are excluded from this closure.

EFFECTIVE DATE: This order is effective upon the signature of the authorized officer.

SUPPLEMENTARY INFORMATION: The BLM will implement a seasonal (March 15-July 15) emergency closure of public lands, and associated roads, trails, and camping areas to the general public. The closure is intended to comply with the U.S. Fish and Wildlife Service Biological Opinion (2-21-94-F-192R2) by reducing human disturbance to the endangered Sonoran Pronghorn. The conservation measure in the biological opinion reads as follows:

The BLM will implement a seasonal (March 15-July 15) emergency closure of roads, trails, and camping areas to the general public; such closures will be carried over as a proposed action in the upcoming land use planning process. The closure dates and seasons will be consistent with similar closures on Organ Pipe Cactus National Monument, Cabeza Prieta National Wildlife Refuge, and Barry M. Goldwater Range. The closure will be effective west of SR 85 and south of the Darby Wells/Scenic Loop/Chico Shunie Road but will not include the Gunsite Wash area * * *

The closure will be effective for public lands west of Arizona State Route 85 and south of the Darby Wells/Scenic Loop/Chico Shunie Road. The closure will not include the Darby Wells/Scenic Loop/Chico Shunie Road and public lands north of these roads. The closure will also exempt the Gunsite Wash winter camping areas as delineated by the BLM. This closure will be monitored and enforced by the BLM.

The closure dates and seasons will be consistent with similar closures on the Organ Pipe Cactus National Monument, the Cabeza Prieta National Wildlife Refuge, and the Barry M. Goldwater Air Force Range. BLM will coordinate this public land closure with these agencies. In addition, the BLM will direct camping to Gunsite Wash, and strictly enforce the two-week camping limit rule.

Order: Notice is hereby given that effective the date of a signature by the authorized officer of this notice, the above described lands will be closed annually, between March 15 to July 15, to all public entry and recreation activities. The following persons and agencies, operating within the scope of their official duties, are exempt from the provisions of these closures: employees of the Bureau of Land Management, Border Patrol, National Park Service, U.S. Fish and Wildlife Service, county, state and federal law enforcement, fire protection personnel, and others with appropriate authorization. The grazing permittees, their employees, and others holding valid authorizations will be allowed access to the above described lands in order to carry out activities related to their grazing operations or other permitted activities. Native Americans may enter the subject lands for religious and cultural purposes. This order will remain in effect until further notice. Any person who fails to comply with a closure or restriction order issued under 43 CFR 8364.1 is subject to the penalties provided in 43 CFR subpart 8360.07.

FOR FURTHER INFORMATION CONTACT: MarLynn Spears, Acting Field Manager, Phoenix Field Office, 21605 North 7th Avenue, Phoenix, Arizona 85027, (623) 580-5500.

Dated: January 23, 2003.
MarLynn Spears,
Acting Field Manager.

[FR Doc. 03-5834 Filed 3-11-03; 8:45 am]

BILLING CODE 4310-32-P